DEPARTMENT OF TRANSPORTATION

Federal Aviation Administration

Approval of Noise Compatibility Program for Harrisburg International Airport, Middletown, PA

AGENCY: Federal Aviation Administration, DOT.

ACTION: Notice.

SUMMARY: The Federal Aviation Administration (FAA) announces its findings on the noise compatibility program submitted by the Susquehanna Area Regional Airport Authority (SARAA) under the provisions of Title I of the Aviation Safety and Noise Abatement Act, as amended, (Public Law 96-193) (hereinafter referred to as “the Act”) and 14 CFR Part 150. These findings are made in recognition of the description of Federal and nonfederal responsibilities in Senate Report No. 96-52 (1980). On January 13, 2006, the FAA determined that the noise exposure maps submitted by the SARAA under part 150 were in compliance with applicable requirements.

EFFECTIVE DATES: The effective date of the FAA's approval of the Noise Compatibility Program is July 7, 2006.

FOR FURTHER INFORMATION CONTACT: Edward S. Gabsewics, CEP, Environmental Protection Specialist, Federal Aviation Administration, Harrisburg Airports District Office, 3905 Hartzdale Drive, Suite 508, Camp Hill, PA 17011, Telephone 717-730-2932. Documents reflecting this FAA action may be reviewed at this same location.

SUPPLEMENTARY INFORMATION: This notice announces that the FAA has given its overall approval to the Noise Compatibility Program for the Harrisburg International Airport, effective July 7, 2006. Under section 104(a) of the Aviation Safety and Noise Abatement Act of 1979, as amended (herein after referred in as the “Act”) [recodified as 49 USC Section 47504], an airport operator who has previously submitted a Noise Exposure Map may submit to the FAA a Noise Compatibility Program which sets forth the measures taken or proposed by the airport operator for the reduction of existing non-compatible land uses and prevention of additional non-compatible land uses within the area covered by the Noise Exposure Maps. The Act requires such programs to be developed in consultation with interested and affected parties including local communities, government agencies, airport users, and FAA personnel.

Each airport noise compatibility program developed in accordance with Federal Aviation Regulations (FAR) Part 150 is a local program, not a Federal program. The FAA does not substitute its judgment for that of the airport proprietor with respect to which measures should be recommended for action. The FAA's approval or disapproval of FAR part 150 program recommendations is measured according to the standards expressed in Part 150 and the Act and is limited to the following determinations:

a. The Noise Compatibility Program was developed in accordance with the provisions and procedures of FAR Part 150;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport noise compatibility program are delineated in FAR part 150, section 150.5. Approval is not a determination concerning the acceptability of land uses under Federal, state, or local law. Approval does not by itself constitute an FAA implementing action. A request for Federal action or approval to implement specific noise compatibility measures may be required, and an FAA decision on the request may require an environmental assessment of the proposed action. Approval does not constitute a commitment by the FAA to financially assist in the implementation of the program nor a determination that all measures covered by the program are eligible for grant-in-aid funding from the FAA under the Airport and Airway Improvement Act of 1982, as amended. Where Federal funding is sought, requests for project grants must be submitted to the FAA Airports District Office in Camp Hill, Pennsylvania.

The SARAA submitted to the FAA on December 16, 2005, the Noise Exposure Maps, descriptions, and other documentation produced during the noise compatibility planning study conducted from mid-2003 to December 2005.

The Harrisburg International Airport's Noise Exposure Maps were determined by FAA to be in compliance with applicable requirements on January 13, 2006. Notice of this determination was published in the Federal Register on January 31, 2006.

The Harrisburg International Airport study contains a proposed noise compatibility program comprised of actions designed for phased implementation by airport management and adjacent jurisdictions from 2004 to beyond 2010. It was requested that the FAA evaluate and approve this material as a Noise Compatibility Program as described in 49 U.S.C. Section 47504 (formerly Section 104(b) of the Act). The FAA began its review of the program on January 13, 2006 and was required by a provision of the Act to approve or disapprove the program within 180 days (other than the use of new or modified flight procedures for noise control). Failure to approve or disapprove such program within the 180-day period shall be deemed to be an approval of such program.

The submitted program contained ten proposed actions for noise mitigation (one more abatement measure, six land use measures, and three program management measures). The FAA completed its review and determined that the procedural and substantive requirements of the Act and FAR Part 150 have been satisfied. The overall program was approved by the FAA effective July 7, 2006.

Approval was granted for all ten of the ten specific program measures. The approved measures include: Encourage noise-attenuating standards in airport development; Amend local comprehensive plans by adopting the Part 150 Noise Compatibility Plan as their noise compatibility elements; Adopt guidelines for discretionary review of development projects; Adopt noise overlay zoning to prohibit development of selected noise-sensitive land uses within the Future (2010) NEM 65+ DNL noise contour; Encourage local jurisdictions not to allow an increase in residential density in the residential or agricultural zoning districts within the Future (2010) NEM 65+ DNL noise contour; Develop and implement a voluntary residential acquisition program within the Future (2010) NEM 65+ noise contour; Initiate a formal study (study only) to evaluate the noise levels at various churches located within the Future (2010) NEM/NCP 65+ DNL noise contour for eligibility for sound insulation (eligibility based on FAA funding criteria); Establish a Noise Abatement Advisory Committee; Establish a pilot/community awareness program; and Update the Noise Exposure Maps and Noise Compatibility Program.

These determinations are set forth in detail in a Record of Approval signed by the Acting Associate Administrator for Airports on July 7, 2006. The Record of Approval, as well as other evaluation materials and the documents comprising the submittal, are available for review at the following offices:

Federal Aviation Administration Harrisburg Airports District Office, 3905 Hartzdale Drive, Suite 508, Camp Hill, PA 17011 and

Susquehanna Area Regional Airport Authority, Harrisburg International Airport, One Terminal Drive, Suite 300, Middletown, PA 17057.

The Record of Approval also will be available online at http://www.faa.gov/arp/environmental/14cft150/index14.cfm.

Issued in Camp Hill, Pennsylvania, July 11, 2006.
Wayne T. Heibeck,
Manager, Harrisburg Airports District Office.

[FR Doc. 06-6424 Filed 7-21-06; 8:45 am]

BILLING CODE 4910-13-M